DEPARTMENT OF TRANSPORTATION

Federal Aviation Administration

14 CFR Part 39

[Docket No. FAA-2006-24697; Directorate Identifier 2006-NM-045-AD; Amendment 39-14781; AD 2006-20-11]

RIN 2120-AA64

Airworthiness Directives; Boeing Model 757-200, -200PF, and -200CB Series Airplanes

AGENCY: Federal Aviation Administration (FAA), Department of Transportation (DOT).

ACTION: Final rule.

SUMMARY: The FAA is adopting a new airworthiness directive (AD) for certain Boeing Model 757-200, -200PF, and -200CB series airplanes. This AD requires doing initial and repetitive detailed or high frequency eddy current inspections for cracks around the rivets at the upper fastener row of the skin lap splice of the fuselage, and repairing any crack found. This AD results from a report indicating that certain rivets were incorrectly installed in some areas of the skin lap splices during production because they were drilled with a countersink that was too deep. We are issuing this AD to detect and correct premature fatigue cracking at certain skin lap splice locations of the fuselage, and consequent rapid decompression of the airplane.

DATES: This AD becomes effective November 8, 2006.

The Director of the Federal Register approved the incorporation by reference of a certain publication listed in the AD as of November 8, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for the service information identified in this proposed AD.

FOR FURTHER INFORMATION CONTACT: Dennis Stremick, Aerospace Engineer, Airframe Branch, ANM-120S, FAA, Seattle Aircraft Certification Office, 1601 Lind Avenue, SW., Renton, Washington 98057-3356; telephone (425) 917-6450; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 757-200, -200PF, and -200CB series airplanes. That NPRM was published in the Federal Register on May 9, 2006 (71 FR 26875). That NPRM proposed to require doing initial and repetitive detailed or high frequency eddy current (HFEC) inspections for cracks around the rivets at the upper fastener row of the skin lap splice of the fuselage, and repairing any crack found.

Comments

We provided the public the opportunity to participate in the development of this AD. We have considered the comments received.

Support for NPRM

American Airlines agrees with the NPRM and has no further comment at this time.

NPRM Not Applicable

Continental Airlines states that, based on the effectivity, the NPRM is not applicable to its 757 fleet.

Request To Add Credit for Alternate Inspections

Northwest Airlines (NWA) and Air Transport Association (ATA), on behalf of member airlines, ask that, to avoid unnecessary processing of an alternative method of compliance (AMOC), credit be allowed in this AD for accomplishing the lap splice inspections specified in Boeing Special Attention Service Bulletin 757-53-0090, dated June 2, 2005 (referenced in the NPRM as the source of service information for accomplishing the required actions). NWA states that paragraph 1.F. of the referenced service bulletin specifies that the lap splice inspections are approved as an AMOC to AD 2001-20-12, amendment 39-12460 (66 FR 52492, October 16, 2001) for the significant structural item (SSI) inspections. NWA adds that AD 2006-11-11, amendment 39-14615 (71 FR 30278, May 26, 2006) supersedes AD 2001-20-12.

We agree with the commenters. Accomplishing the requirements in paragraph (f) of AD 2006-11-11 terminates the requirements in paragraph (f) of this AD. We have added a new paragraph (i)(4) to this AD to specify that the inspections in the referenced service bulletin were approved as an AMOC to AD 2006-11-11.

Request To Revise Service Information

US Airways and ATA, on behalf of member airlines, recommend that, prior to release of a final rule, published repair information be provided in a subsequent revision to the referenced service bulletin or the Boeing 757-200 Structural Repair Manual (SRM). U.S. Airways states that published FAA-approved repair data as a means of compliance to the proposed rule will reduce the administrative burden of processing AMOCs between the operator and the Boeing Commercial Airplanes Delegation Option Authorization Organization. U.S. Airways adds that providing repair data in advance of the release of the final rule will result in expedited repairs and return airplanes to revenue service in a timely manner.

We partially agree with the commenters. Having all repair procedures in one place can be simpler for operators, but there is no repair method defined as yet, and we do not know if or when Boeing will revise its service bulletin or SRM. Waiting to include a revised service bulletin or SRM in this action would delay addressing an unsafe condition. Therefore, we have made no change to the AD in this regard.

Clarify Description of Production Rivets

Boeing asks that we clarify the description of the production rivets installed in the skin lap splices by deleting “modified” when describing the rivets. Boeing states that the production rivets are commonly referred to as “Briles” rivets, and are manufactured with a 120-degree, modified shear head. Boeing notes that the current wording implies that the rivets were modified before installation on the aircraft.

We acknowledge Boeing's request for clarification. We have changed the description in the Summary section and in paragraph (d) of this AD as follows: “This AD results from a report indicating that certain rivets were incorrectly installed in some areas of the skin lap splices during production because they were drilled with a countersink that was too deep.” The Discussion section of the NPRM preamble does not reappear in the final rule.

Conclusion

We have carefully reviewed the available data, including the comments received, and determined that air safety and the public interest require adopting the AD with the changes described previously. These changes will neither increase the economic burden on any operator nor increase the scope of the AD.

Costs of Compliance

There are about 294 airplanes of the affected design in the worldwide fleet. This AD affects about 160 airplanes of U.S. registry. The following tables provide the estimated costs for U.S. operators to comply with either the detailed or HFEC inspections in this AD.

Airplane group | Work hours | Average hourly labor rate | Cost per airplane
Estimated Costs for Detailed Inspection, per Inspection Cycle
Group 1 | 7 | $80 | $560
Group 2 | 6 | 80 | 480
Group 3 | 12 | 80 | 960
Group 4 | 10 | 80 | 800
Estimated Costs for HFEC Inspection, per Inspection Cycle
Group 1 | 12 | 80 | 960
Group 2 | 11 | 80 | 880
Group 3 | 20 | 80 | 1,600
Group 4 | 15 | 80 | 1,200

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-20-11 Boeing: Amendment 39-14781. Docket No. FAA-2006-24697; Directorate Identifier 2006-NM-045-AD.

Effective Date

(a) This AD becomes effective November 8, 2006.

Affected ADs

(b) None.

Applicability

(c) This AD applies to Boeing Model 757-200, -200PF, and -200CB series airplanes, certificated in any category; as identified in Boeing Special Attention Service Bulletin 757-53-0090, dated June 2, 2005.

Unsafe Condition

(d) This AD results from a report indicating that certain rivets were incorrectly installed in some areas of the skin lap splices during production because they were drilled with a countersink that was too deep. We are issuing this AD to detect and correct premature fatigue cracking at certain skin lap splice locations of the fuselage and consequent rapid decompression of the airplane.

Compliance

(e) You are responsible for having the actions required by this AD performed within the compliance times specified, unless the actions have already been done.

Initial and Repetitive Inspections

(f) Do initial and repetitive detailed or high frequency eddy current inspections for cracking around the rivets at the upper fastener row of the skin lap splice of the fuselage by doing all the actions in accordance with the Accomplishment Instructions of Boeing Special Attention Service Bulletin 757-53-0090, dated June 2, 2005, except as provided by paragraphs (g) and (h) of this AD. Do the inspections at the applicable times specified in Paragraph 1.E., “Compliance,” of the service bulletin; except where the service bulletin specifies a compliance time after the original release date of the service bulletin, this AD requires compliance after the effective date of this AD.

Repair

(g) If any crack is found during any inspection required by this AD: Before further flight, repair the crack using a method approved in accordance with the procedures specified in paragraph (i) of this AD.

No Reporting Required

(h) Although Boeing Special Attention Service Bulletin 757-53-0090, dated June 2, 2005, recommends that inspection results be reported to the manufacturer, this AD does not include that requirement.

Alternative Methods of Compliance (AMOCs)

(i)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane.

(4) The inspections specified in paragraph (f) of this AD are approved as an AMOC to paragraph (h) of AD 2006-11-11, amendment 39-14615 for the inspections of Significant Structural Item (SSI) 53-30-07 and 53-60-07 (fuselage lap splices, left and right upper fastener row) listed in the May 2003 or June 2005 revision of the Boeing 757 Maintenance Planning Data (MPD) Document D622N001-9. This AMOC applies only to the common areas inspected in accordance with Boeing Special Attention Service Bulletin 757-53-0090, dated June 2, 2005. All provisions of AD 2006-11-11 that are not specifically referenced in the above statements remain fully applicable and must be complied with as required by this AD. Operators may revise their FAA-approved maintenance or inspection program with these alternative inspections for common areas.

Material Incorporated by Reference

(j) You must use Boeing Special Attention Service Bulletin 757-53-0090, dated June 2, 2005, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 22, 2006.
Ali Bahrami,
Manager, Transport Airplane Directorate, Aircraft Certification Service.

[FR Doc. E6-16197 Filed 10-3-06; 8:45 am]

BILLING CODE 4910-13-P